FEDERAL TRADE COMMISSION

Granting of Request for Early Termination of the Waiting Period Under the Premerger Notification Rules

Section 7A of the Clayton Act, 15 U.s.c. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant General for the Antitrust Division of the Department of Justice. Neither agency intends to take any action with respect to these proposed acquisitions during the applicable waiting period.

Trans # | Acquiring | Acquired | Entities
TRANSACTIONS GRANTED EARLY TERMINATION—11/27/2006
20070272 | MDU Resources Groupo, Inc. | Cascade Natural Gas Corp. | Cascade Natural Gas Corp.
20070278 | Prism Business Media Holdings, LLC | Penton Media, Inc. | Penton Media, Inc.
20070289 | RiskMetrics Group, Inc. | Institutional Shareholder Services | Institutional Shareholder Services
20070291 | Affordable Residential Communities, Inc. | The C. Clifton Robinson Intervivos Assets Trust | NLASCO, Inc.
20070300 | Wellsford Real Properties, Inc. | Reis, Inc. | Reis, Inc.
20070304 | Alfred E. Mann | MannKind Corporation | MannKind Corporation
20070315 | Aruze | Wynn Resorts, Limited | Wynn Resorts, Limited
20070317 | H.I.G. Capital Partners III, L.P. | The Bernard Sherman 2000 Trust | The Harvard Drug Group, L.L.C.
20070322 | ValueAct Capital Master Fund, L.P. | Seitel, Inc. | Seitel, Inc.
20070324 | David Geffen | DWA Escrow LLLP | Dream Works Animation SKG, Inc.
20070325 | Jeffrey Katzenberg | DWA Escrow LLLP | Dream Works Animation SKG, Inc.
TRANSACTIONS GRANTED EARLY TERMINATION—11/28/2006
20070237 | Blue Harbour Strategic Value Partners Offshore, Ltd. | Community Health Systems, Inc. | Community Health Systems, Inc.
20070249 | Madison Dearborn Capital Partners IV, L.P. | James E. Mauer | JEM Sales, Inc. Zartic, Inc. Zar Tran, Inc.
20070284 | Wellspring Capital Partners IV, L.P. | Superior Plus Income Fund | JW Aluminum Holding Company
20070293 | Herbst Gaming, Inc. | Kirk Kerkorian | PRMA Land Development Company The Primodonna Company, LLC
20070320 | Joseph M. Gregory | Lehman Brothers Holdings Inc. | Lehman Brothers Holdings Inc.
TRANSACTIONS GRANTED EARLY TERMINATION—11/29/2006
20070299 | Prides Capital Fund I, L.P. | Waste Services, Inc. | Waste Services, Inc.
TRANSACTIONS GRANTED EARLY TERMINATION—11/30/2006
20070250 | Allis-Chalmers Energy Inc. | OGRS, L.L.C. | Oil & Gas Rental Services, Inc.
20070274 | Affiliated Managers Group, Inc. | Chicago Equity Partners, LLC | Chicago Equity Partners, LLC
20070281 | SkillSoft PLC | 2003 TIL Settlement | Thomson Global Resources Thomson Learning Inc.
20070282 | 2003 TIL Settlement | SkillSoft PLC | SkillSoft PLC and certain assets of Teksid Aluminum Components, Inc. Teksid Aluminum Foundry, Inc. Teksid do Brasil Aluminio Ltd. Teksid Investment Aluminum B.V.
20070309 | Alfa, S.A.B. de C.V. | Questor Partners Bermuda, L.P.
TRANSACTIONS GRANTED EARLY TERMINATION—12/01/2006
20070295 | TC Pipelines | Sierra Pacific Resources Inc. | Tuscarora Gas Transmission Company
20070298 | Nomura Holding, Inc. | Silver Lake Partners II, L.P. | Instinet Incorporated
20070314 | Westbury Trust | Waste Services, Inc. | Waste Services, Inc.
20070316 | Electric Power Development Co., Ltd. | Peoples Energy Corporation | COB Energy Facility, LLC Elwood Energy, LLC Elwood Expansion, LLC
TRANSACTIONS GRANTED EARLY TERMINATION—12/04/2006
20070287 | Micron Technology, Inc. | Bali Investments S.a.r.l. | Avago Technologies Limited
20070303 | Hunter's Glen/Ford, Ltd. | Affordable Residential Communities Inc. | Affordable Residential Communities Inc.
20070310 | Bank of America Corporation | Clout Financial Services, Inc. | Clout Financial Services, Inc.
20070311 | SPC Partners III, L.P. | Raj Bhathal | RAJ Manufacturing, Inc.
20070327 | McKesson Corporation | Per-Se Technologies, Inc. | Per-Se Technologies, Inc.
20070335 | Zubair M. Kazi | YUM! Brands, Inc. | KFC U.S. Properties, Inc.
20070337 | Liz Claiborne, Inc. | Newton Holding, LLC | Kate Spade LLC
20070339 | PepsiCo, Inc. | North Castle Partners II, L.P. | Naked Juice Co. Holdings, Inc.
20070342 | Sandler Capital Partners V, L.P. | Dean Hazen | Starstream Communications Inc.
20070346 | Catholic Healthcare West | Mission Holding Corporation | CDS of Nevada, Inc. and Primary Care Plus Mission Holding Corporation Primary Care Plus Foundation Saint Mary's Foundation Saint Mary's Health First Saint Mary's Outpatient Surgery Center at Galena Saint Mary's Preferred Health Insurance Company, Inc. Saint Mary's Saint Mary's Regional Medical Center
20070350 | CHS Private Equity V LP | Mainline Holding Company, LLC | Mainline Holding Company, LLC
20070354 | GWLS Holdings, Inc. | Fenway Partners Capital Fund II, L.P. | Greatway Logistics Services, Inc.
20070359 | W. Jack Davis | Citigroup Inc. | ERICO Global Company
20070362 | Abbott Laboratories | Kos Pharmaceuticals, Inc. | Kos Pharmaceuticals, Inc.
20070363 | Alexander Abramov | Oregon Steel Mills, Inc. | Oregon Steel Mills, Inc.
20070364 | Roman Abramovich | Oregon Steel Mills, Inc. | Oregon Steel Mills, Inc.
20070370 | Audax Private Equity Fund, L.P. | Thomas Gorny | Dot5Hosing, Inc. iPower, Inc. StartLogic, Inc.
TRANSACTIONS GRANTED EARLY TERMINATION—12/05/2006
20070259 | MatlinPatterson Global Opportunities Partners (Cayman) II LP | Owens Corning | Owens Corning
20070260 | MatlinPatterson Global Opportunities Partners II L.P. | Owens Corning | Owens Corning
TRANSACTIONS GRANTED EARLY TERMINATION—12/06/2006
20070328 | The Bear Stearns Copanies, Inc. | Dean Vanech | Delta Power Company, LLC DPC Atlantis, LLC
20070376 | Sterling Investment Partners II, L.P. | American Capital Strategies, Ltd. | WWC Acquisitions, Inc.
TRANSACTIONS GRANTED EARLY TERMINATION—12/07/2006
20070319 | Bayer AG | Warner Chilcott Limited | Warner Chilcott (US), Inc.
TRANSACTIONS GRANTED EARLY TERMINATION—12/08/2006
20070276 | Thompson Street Capital Partners II, L.P. | Randy Mauermann | Connecticut Electric & Switch Manufacturing Co. Parallax Power Supply, LLC Tacoma Electric Supply, LLC
20070301 | Tata Steel Limited | Corus Group plc | Corus Group plc
20070312 | CSL Limited | Medimmune, Inc. | Medimmune, Inc.
20070313E.P. Hamilton Trusts, LLC | Blackwell Publishing Limited | Blackwell Publishing Limited
20070326 | Alexander Knaster | Richard W. Muzzy, Jr. | The Holland Group, Inc.
20070330 | Harbour Group Investments V, L.P. | FdG Capital Partners LLC | Implus Footcare, LLC
20070349 | News Corporation | Netherlands Mobile Holdings, B.V. | Netherlands Mobile Holdings, B.V.
20070352Fortis SA | Stuart N. Leaf | Cadogan Management LLC
20070353 | Fortis N.V. | Stuart N. Leaf | Cadogan Management LLC
20070366 | Diamond Castle Partners IV, L.P. | Providence Equity Partners IV L.P. | BlueStone TV Holdings Inc.
20070375 | Green Equity Invwestors IV, L.P. | Federated Department Stores, Inc. | David's Bridal, Inc. Priscilla of Boston, Inc.
20070382 | Dynea Oy | Dynea Canada Ltd. Dynea Chemicals Oy Dynea Mexico S.A. de C.V. Marmorandum LLC
20070385 | Morgenthaler lPartners VII, L.P. | Frank Gibbs | Ryan Herco Products Corporation
20070387 | Morgan Stanley | Welsh, Carson, Anderson & Stowe IX, L.P. | the Company
20070388 | InterMedia Partners VII, L.P. | Primedia, Inc. | Primedia Enthusiast Publications, Inc. Primedia Special Interest Publications, Inc. Primedia Specialty Group, Inc.
20070389 | J.W. Childs Equity Partners III, L.P. | CHG Healthcare Services, Inc. | CHG Healthcare Services, Inc.
20070402 | AT&T Inc. | Comergent Technologies | Comergent Technologies, Inc.
20070405 | Parallel Investment Partners, PL | Ricarhd A. Godley | Regional Management Corp.
20070413 | American Express Company | Oak Investment Partners XI, Limited Partnership | Harbor Payments, Inc.
20070416 | SIC Investment Co., Ltd. | Toshiba Ceramics Co., Ltd. | Toshiba Ceramics Co., Ltd.
20070423 | Cypress Semioconductor Corporation | Thomas Dinwoodie | PowerLight Corporation
20070424 | Thomas Dinwoodie | Cypress Semioconductor Corporation | SunPower Corporation
TRANSACTIONS GRANTED EARLY TERMINATION—12/11/2006
20070351 | AEGON, N.V. | Clark, Inc. | Clark, Inc.
20070356 | Nidec Corporation | Valeo S.A. | Valeo Equipment 1 Mexico, S.de R.L. de C.V. Valeo Equipment 1 U.S., Inc.
20070418 | Motorola, Inc. | Good Technology | Good Technology, Inc.
TRANSACTIONS GRANTED EARLY TERMINATION—12/12/2006
20061437 | Johnson & Johnson | Pfizer, Inc. | CHC Direct LLC Parke, Davis & Company LIC Pfizer H.C.P. Corporation and Others Pfizer Overseas, Inc. Pfizer Pharmaceuticals LLC Pharmacia & Upjohn Company LLC Tabor Corporation Warner Lambert Co LLC
20070332 | Rhone Capital L.L.C. | Compar Invest S.A. | LWB Refractories Holding GmbH
20070340 | 3M Company | Don Segal | SoftMed Systems, Inc.
20070357 | BlackRock Kelso Capital Holding LLC | Joseph A. Megy | Jamegy, Inc.
20070361 | Caxton-Iseman (VNG), L.P. | Gary E. West | Valley National Gases Incorporated
20070368 | Great Hill Equity Partners III, L.P. | FreightQuote.com Inc. | FreightQuote.com Inc.
20070372 | Q-Comm Corporation | Journal Communications, Inc. | Norlight Telecommunications, Inc.
20070401 | Quad-C Partners VII, L.P. | Dublin Clark Fund II, L.P. | Special Event Services, Inc.
20070408 | Royal Bank of Canada | Ronald H. Shear | CAMS GP, LLC Carlin Asset Management, LLC GTP, LLC
20070409 | Paul G. Desmarais | U.S. Bancorp | U.S. Bank National Association
TRANSACTIONS GRANTED EARLY TERMINATION—12/13/2006
20070393 | Alan B. Miller | Texoma HealthCare System | TexomaCare Texoma Interstate Ventures, Inc. Texoma Medical Center, Inc. Texoma Medical Center Restorative Care Hospital Texoma Specialty Care
TRANSACTIONS GRANTED EARLY TERMINATION—12/14/2006
20070396 | Pfizer Inc. | Embrex, Inc. | Embrex, Inc.
20070404 | West Central Cooperative | SoyMor Cooperative | SoyMor Biodiesel LLC
20070406 | The Penderley Charitable Trust | Orient Overseas (International) Limited | Consolidated (Terminal Holdings) Ltd. Global Terminal & Container Services Inc.
20070432 | Reed Elsevier PLC | BuyerZone.com, Inc. | BuyerZone.com, Inc.
20070433 | Reed Elsevier PLC | BuyerZone.com, Inc. | BuyerZone.com, Inc.
TRANSACTIONS GRANTED EARLY TERMINATION—12/15/2006
20070386Abbott Laboratories | Enanta Pharmaceuticals, Inc. | Enanta Pharmaceuticals, Inc.
20070419 | Premium Holding Corporation | Independent Bank Corporation | Mepco Acceptance Corp Mepco Insurance Premium Financing, Inc.
20070428 | Beecken Petty O'Keefe QP Fund II, L.P. | Fidelity Investors VI Limited Partnership | TIDI Holdings, LLC
20070430 | Alleghany Corporation | Homesite Group Incorporated | Homesite Group Incorporated
20070436 | Axium International, Inc. | Computer Horizons Corp. | Chimes, Inc. Chimes Servicing Corp.
20070439 | Global Geophysical Services, Inc. | Global Geophysical Services, Inc.
20070459 | Actuant Corporation | Hubregsem Bonnet Equity Partners, L.P. | Maxima Holding Company, Inc.

FOR FURTHER INFORMATION CONTACT: Sandra M. Peay, Contact Representative or Renee Hallman, Contact Representative Federal Trade Commission, Premerger Notification Office, Bureau of Competition, Room H-303, Washington, DC 20580, (202) 326-3100.

By Direction of the Commission.
Donald S. Clark,
Secretary.

[FR Doc. 06-9865 Filed 12-26-06; 8:45 am]

BILLING CODE 6750-01-M